DEPARTMENT OF AGRICULTURE

Food and Nutrition Service

Agency Information Collection Activities: Proposed Collection; Comment Request—Serving SNAP Applicants and Participants With Limited English Proficiency (LEP)

AGENCY: Food and Nutrition Service (FNS), USDA.

ACTION: Notice.

SUMMARY: In accordance with the Paperwork Reduction Act of 1995, this notice invites the general public and other public agencies to comment on this proposed information collection. This is a new information collection for the contract Serving Supplementation Nutrition Assistance Program (SNAP) Applicants and Participants with Limited English Proficiency (LEP). The purpose of the Servicing SNAP LEP study is to provide FNS with a comprehensive understanding of the language landscapes in which SNAP and Nutrition Assistance Program (NAP) agencies operate, as well as the LEP policy and operations landscapes.

DATES: Written comments must be received on or before September 9, 2022.

ADDRESSES: Comments may be sent to: Eric Williams, Food and Nutrition Service, U.S. Department of Agriculture, 1320 Braddock Place, 5th Floor, Alexandria, VA 22314. Comments may also be submitted or via email to eric.williams@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Eric Williams at 703-305-2640.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Serving SNAP Applicants and Participants with Limited English Proficiency (LEP).

Form Number: N/A.

OMB Number: 0584-NEW.

Expiration Date: Not yet determined.

Type of Request: New collection.

Abstract: The Supplemental Nutrition Assistance Program (SNAP) provides a monthly benefit to eligible households to spend on food so that households and individuals with low incomes have access to enough nutritious food to lead healthy, active lives. The U.S. Department of Agriculture's (USDA) Food and Nutrition Service (FNS) administers SNAP in partnership with 53 State agencies (the 50 States, the District of Columbia [DC], Guam, and the U.S. Virgin Islands [USVI]). In three U.S. Territories—American Samoa, the Commonwealth of the Northern Mariana Islands (CNMI), and Puerto Rico—nutrition assistance to low-income individuals and households is provided through the Nutrition Assistance Program (NAP).

As Federally assisted programs, both SNAP and NAP are required to comply with Title VI of the Civil Rights Act of 1964 (Title VI) and its implementing regulations for the USDA at 7 CFR 15. (U.S. Department of Justice Civil Rights Division n.d.). Title VI prohibits entities that receive Federal financial assistance from discriminating against or otherwise excluding individuals on the basis of race, color, or national origin. In order to avoid discrimination against LEP persons on the ground of national origin, administrators of Federal financial assistance programs must take reasonable steps to ensure that LEP persons receive the language assistance necessary to afford them meaningful access to SNAP or NAP as applicable, free of charge. LEP individuals are defined as those who do not speak English as their primary language and have a limited ability to read, speak, write, or understand English (USDA 2014, p. 70775). Meaningful access requires that State agencies provide language assistance services that allow equal participation in and access to the benefits of a given program. To support meaningful access, language assistance must be provided at a time and place that avoids the effective denial of the service, benefit, or right at issue or the imposition of an undue burden on or delay in important rights, benefits, or services to the LEP person (USDA 2014, p. 70779-70780).

As the agency responsible for providing oversight and monitoring for both SNAP and NAP, it is critical that FNS understands whether and how SNAP and NAP agencies are complying with LEP requirements. The LEP study will provide FNS with actionable insights about how States and Territories operate language access policies and requirements. The study will gather detailed data from all 53 State SNAP agencies via a web-based survey, the three Territories that operate NAP via in-depth interviews, and will conduct case studies in four States. The study will provide FNS with a comprehensive summary of findings on policies and practices related to LEP access. It will increase FNS' understanding of SNAP LEP access policies and practices across the nation, including how States make decisions about these policies and practices, how they train staff on them, and their perceptions of Federal regulations. The findings from the study will help inform policymakers efforts to provide more meaningful access to SNAP and NAP.

Affected Public: Members of the public affected by the data collection include State, Local, and Tribal Governments from 53 State agencies and three Territories. Respondent groups identified include: (1) State or local agency directors/managers; (2) NAP directors (3) Local agency frontline staff.

Estimated Number of Respondents: The total estimated number of unique respondents is 100, with zero nonrespondents. This includes: 53 State or territory SNAP directors; 3 NAP directors, 12 local SNAP agency directors; 12 local SNAP office managers, and 20 local SNAP agency frontline staff. The State or territory SNAP agency directors include respondents from 53 U.S. States and territories, (50 U.S. States, the District of Columbia, the U.S. Virgin Islands, and Guam). These respondents will respond to a web survey. The NAP directors include three U.S. Territory NAP agencies (American Samoa, Commonwealth of the Northern Mariana Islands, and Puerto Rico). The three NAP agency directors will participate in an in-depth interview (IDI). Four States will be selected for the case study. Here is a summary of the respondents for the case study:

• 4 State SNAP directors (one from each of the four States)

• 12 local SNAP agency directors (three from each of the four States)

• 12 local SNAP office managers (three from each of the four States)

• 20 local SNAP agency frontline staff (5 from each of the four States). Twelve of these staff will participate in in-depth interviews and 8 of these staff will participate in simulations.

Estimated Number of Responses per Respondent: Across all respondents, the average number of responses is 7.56. State or territory SNAP directors will respond once to a web-based survey with eight modules. State or territory SNAP directors will receive a FNS State outreach email to notify them about the web survey. Mathematica will then email the States a study description and invitation to complete the web survey. State or territory SNAP directors who have not completed the survey will be emailed biweekly to complete the survey (for a total of five possible emails). Those who have not completed in the last four weeks of data collection will receive an urgent survey reminder email every week (for a total of four possible emails). State or territory SNAP directors will be asked to submit documents related to their language access procedures via the survey. If they do not submit their documents then they will be sent reminder emails (for a total of nine possible emails). Starting in week six of data collection, State or territory SNAP directors will receive reminder phone calls.

One NAP director from each of three selected Territory NAP agencies will be asked to complete one IDI. The NAP directors will be provided with a definitions handout to assist in answering the questions during the IDI. Prior to the IDI, Mathematica will administer one pre-interview questionnaire that will allow the IDI protocol to be tailored to their respective territory. We may break the interviews into multiple sessions to reduce the burden of the IDI. The IDI will focus on understanding the development and implementation of language access policies. NAP directors will receive an email from FNS to notify them about the IDI. Mathematica will then send an email to NAP directors to invite them to do the IDI. Following the invitation email, Mathematica will send another email that coordinates the scheduling of the IDI. NAP directors that have not scheduled their IDI will be sent a reminder email (for a total of two possible emails). NAP directors will be asked to submit documents related to their language access procedures. If they do not submit their documents then they will be sent reminder emails (for a total of two possible document reminder emails).

Lastly, four State SNAP agencies that participated in the initial survey will be selected in collaboration with FNS for a case study. The case study will involve interviews with four State SNAP directors, 12 local SNAP agency directors, 12 local SNAP office managers, and 12 local SNAP agency frontline staff. Eight local SNAP agency frontline staff will complete a participant experience simulation. The State or territory SNAP directors will receive an initial email from FNS notifying them about the case studies. Following that, an email will come from the research team introducing them to the case studies and asking to schedule a call with them to discuss the case studies. State SNAP directors that do not respond to this initial email will receive a reminder email. The State SNAP directors will then participate in a one hour call to discuss the case study. They will be provided with an email template to use to reach out to three local areas in their State. The research team will then follow up with the local agencies by email to schedule their portions of the site visit.

Estimated Total Annual Responses: 756.

Estimated Time per Response: The estimated time of response varies from 0.03 hours for activities related to reading email reminders for the survey, case studies, and in-depth interivews to 2.5 hours for completing the survey and document request, as well as, the NAP agency interview protocol and document request. Variation of response time is dependent on the respondent group, as shown in the attached table, with an average estimated time of 18.9 minutes (0.315 hours).

Estimated Total Annual Burden on Respondents: The total estimated burden on respondents is 14,308.2 minutes (238.47 hours). See the table attached for estimated total annual burden for each type of respondent.

Affected public | Type of respondents | Instruments | Sample size | Respondents: Number of respondents | Respondents: Frequency of response | Respondents: Total annual responses | Respondents: Hours per response | Respondents: Annual burden (hours) | Non-respondents: Number of non-respondents | Non-respondents: Frequency of response | Non-respondents: Total annual responses | Non-respondents: Hours per response | Non-respondents: Annual burden (hours) | Grand total annual burden estimate (hours)
State, local, and Tribal government | State or territory SNAP director | Survey | 53 | 53 | 1 | 53 | 2.50 | 132.50 | 0 | 0 | 0 | 0 | 0 | 132.50
| State or territory SNAP director | Survey FNS State outreach email | 53 | 53 | 1 | 53 | 0.07 | 3.53 | 0 | 0 | 0 | 0 | 0 | 3.53
| State or territory SNAP director | Survey study team outreach email with study description | 53 | 53 | 1 | 53 | 0.10 | 5.30 | 0 | 0 | 0 | 0 | 0 | 5.30
| State or territory SNAP director | Survey biweekly survey reminder email #1 | 53 | 47 | 1 | 47 | 0.03 | 1.57 | 0 | 0 | 0 | 0 | 0 | 1.57
| State or territory SNAP director | Survey biweekly survey reminder email #2 | 53 | 41 | 1 | 41 | 0.03 | 1.37 | 0 | 0 | 0 | 0 | 0 | 1.37
| State or territory SNAP director | Survey biweekly survey reminder email #3 | 53 | 35 | 1 | 35 | 0.03 | 1.17 | 0 | 0 | 0 | 0 | 0 | 1.17
| State or territory SNAP director | Survey biweekly survey reminder email #4 | 53 | 29 | 1 | 29 | 0.03 | 0.97 | 0 | 0 | 0 | 0 | 0 | 0.97
| State or territory SNAP director | Survey biweekly survey reminder email #5 | 53 | 23 | 1 | 23 | 0.03 | 0.77 | 0 | 0 | 0 | 0 | 0 | 0.77
| State or territory SNAP director | Urgent survey reminder email #1 | 53 | 17 | 1 | 17 | 0.03 | 0.57 | 0 | 0 | 0 | 0 | 0 | 0.57
| State or territory SNAP director | Urgent survey reminder email #2 | 53 | 11 | 1 | 11 | 0.03 | 0.37 | 0 | 0 | 0 | 0 | 0 | 0.37
| State or territory SNAP director | Urgent survey reminder email #3 | 53 | 5 | 1 | 5 | 0.03 | 0.17 | 0 | 0 | 0 | 0 | 0 | 0.17
| State or territory SNAP director | Urgent survey reminder email #4 | 53 | 1 | 1 | 1 | 0.03 | 0.03 | 0 | 0 | 0 | 0 | 0 | 0.03
| State or territory SNAP director | Survey document reminder email #1 | 53 | 47 | 1 | 47 | 0.03 | 1.57 | 0 | 0 | 0 | 0 | 0 | 1.57
| State or territory SNAP director | Survey document reminder email #2 | 53 | 41 | 1 | 41 | 0.03 | 1.37 | 0 | 0 | 0 | 0 | 0 | 1.37
| State or territory SNAP director | Survey document reminder email #3 | 53 | 35 | 1 | 35 | 0.03 | 1.17 | 0 | 0 | 0 | 0 | 0 | 1.17
| State or territory SNAP director | Survey document reminder email #4 | 53 | 29 | 1 | 29 | 0.03 | 0.97 | 0 | 0 | 0 | 0 | 0 | 0.97
| State or territory SNAP director | Survey document reminder email #5 | 53 | 23 | 1 | 23 | 0.03 | 0.77 | 0 | 0 | 0 | 0 | 0 | 0.77
| State or territory SNAP director | Survey document reminder email #6 | 53 | 17 | 1 | 17 | 0.03 | 0.57 | 0 | 0 | 0 | 0 | 0 | 0.57
| State or territory SNAP director | Survey document reminder email #7 | 53 | 11 | 1 | 11 | 0.03 | 0.37 | 0 | 0 | 0 | 0 | 0 | 0.37
| State or territory SNAP director | Survey document reminder email #8 | 53 | 5 | 1 | 5 | 0.03 | 0.17 | 0 | 0 | 0 | 0 | 0 | 0.17
| State or territory SNAP director | Survey document reminder email #9 | 53 | 1 | 1 | 1 | 0.03 | 0.03 | 0 | 0 | 0 | 0 | 0 | 0.03
| State or territory SNAP director | Survey reminder call script | 53 | 53 | 1 | 53 | 0.08 | 4.42 | 0 | 0 | 0 | 0 | 0 | 4.42
| State or territory SNAP director | FNS case study outreach email | 4 | 4 | 1 | 4 | 0.07 | 0.27 | 0 | 0 | 0 | 0 | 0 | 0.27
| State or territory SNAP director | Study team case study outreach email | 4 | 4 | 1 | 4 | 0.03 | 0.13 | 0 | 0 | 0 | 0 | 0 | 0.13
| State or territory SNAP director | Case study reminder email | 4 | 4 | 1 | 4 | 0.03 | 0.13 | 0 | 0 | 0 | 0 | 0 | 0.13
| State or territory SNAP director | Case study call script | 4 | 4 | 1 | 4 | 1.00 | 4.00 | 0 | 0 | 0 | 0 | 0 | 4.00
| State or territory SNAP director | Case study site visit protocol | 4 | 4 | 3 | 12 | 1.00 | 12.00 | 0 | 0 | 0 | 0 | 0 | 12.00
| Local SNAP agency director | Case study outreach email | 12 | 12 | 1 | 12 | 0.03 | 0.40 | 0 | 0 | 0 | 0 | 0 | 0.40
| Local SNAP agency director | Case study reminder email | 12 | 12 | 1 | 12 | 0.03 | 0.40 | 0 | 0 | 0 | 0 | 0 | 0.40
| Local SNAP agency director | Case study site visit protocol | 12 | 12 | 1 | 12 | 1.00 | 12.00 | 0 | 0 | 0 | 0 | 0 | 12.00
| Local SNAP office manager | Case study site visit protocol | 12 | 12 | 1 | 12 | 1.00 | 12.00 | 0 | 0 | 0 | 0 | 0 | 12.00
| Subtotal of State, territory or local agency SNAP director/manager |  | 77 | 77 | 9.17 | 706 | 0.28 | 201.02 | 0 | 0 | 0 | 0 | 0.00 | 201.02
| NAP director | FNS interview email to Territory NAP agency | 3 | 3 | 1 | 3 | 0.03 | 0.10 | 0 | 0 | 0 | 0 | 0 | 0.10
| NAP director | Study team interview outreach email toTerritory NAP agency | 3 | 3 | 1 | 3 | 0.10 | 0.30 | 0 | 0 | 0 | 0 | 0 | 0.30
| NAP director | Interview scheduling to Territory NAP agency | 3 | 3 | 1 | 3 | 0.08 | 0.25 | 0 | 0 | 0 | 0 | 0 | 0.25
| NAP director | Interview reminder email to Territory NAP agency #1 | 3 | 3 | 1 | 3 | 0.08 | 0.25 | 0 | 0 | 0 | 0 | 0 | 0.25
| NAP director | Interview reminder email to Territory NAP agency #2 | 3 | 3 | 1 | 3 | 0.08 | 0.25 | 0 | 0 | 0 | 0 | 0 | 0.25
| NAP director | NAP agency document reminder email #1 | 3 | 3 | 1 | 3 | 0.03 | 0.10 | 0 | 0 | 0 | 0 | 0 | 0.10
| NAP director | NAP agency document reminder email #2 | 3 | 3 | 1 | 3 | 0.03 | 0.10 | 0 | 0 | 0 | 0 | 0 | 0.10
| NAP director | NAP agency pre-interview questionnaire | 3 | 3 | 1 | 3 | 0.17 | 0.50 | 0 | 0 | 0 | 0 | 0 | 0.50
| NAP director | NAP agency interview protocol | 3 | 3 | 1 | 3 | 2.50 | 7.50 | 0 | 0 | 0 | 0 | 0 | 7.50
| NAP director | NAP agency interview definitions handout | 3 | 3 | 1 | 3 | 0.03 | 0.10 | 0 | 0 | 0 | 0 | 0 | 0.10
| Subtotal of NAP director |  | 3 | 3 | 10.00 | 30 | 0.32 | 9.45 | 0 | 0 | 0 | 0 | 0.00 | 9.45
| Local SNAP agency frontline staff | Case study site visit protocol | 12 | 12 | 1 | 12 | 1.50 | 12.00 | 0 | 0 | 0 | 0 | 0 | 12.00
| Local SNAP agency frontline staff | Case study simulation guide | 8 | 8 | 1 | 8 | 2.00 | 16.00 | 0 | 0 | 0 | 0 | 0 | 16.00
| Subtotal of local agency frontline staff |  | 20 | 20 | 1.00 | 20 | 1.40 | 28.00 | 0 | 0 | 0 | 0 | 0.00 | 28.00
| Subtotal unique State, local, and Tribal government |  | 100 | 100 | 7.56 | 756 | 0.315 | 238.47 | 0 | 0 | 0 | 0 | 0.00 | 238.47
| Grand total |  | 100 | 100 | 7.56 | 756 | 0.315 | 238.47 | 0 | 0 | 0 | 0 | 0.00 | 238.47

Cynthia Long,
Administrator, Food and Nutrition Service.

[FR Doc. 2022-14662 Filed 7-8-22; 8:45 am]

BILLING CODE 3410-30-P